DEPARTMENT OF VETERANS AFFAIRS

38 CFR Part 17

RIN 2900-AJ34

Provision of Drugs and Medicines to Certain Veterans in State Homes

AGENCY: Department of Veterans Affairs.

ACTION: Final rule.

SUMMARY: This document affirms amendments to the Department of Veterans Affairs “Medical” regulations concerning the provision of drugs and medicines prescribed by non-VA physicians for certain veterans who are permanently housebound or in need of regular aid and attendance. The amendments allow prescriptions to be filled by non-VA pharmacies in state homes under contract with VA for filling prescriptions for patients in state homes. This is consistent with VA's special relationship with state homes. It eliminates duplication of services and helps to improve timeliness for filling prescriptions in state homes.

DATES: Effective Date: March 13, 2003.

FOR FURTHER INFORMATION CONTACT: Jeff Ramirez, Pharmacy Service (119), Veterans Health Administration, Department of Veterans Affairs, 810 Vermont Avenue NW., Washington, DC 20420, (202) 273-8428. (This is not a toll-free number.)

SUPPLEMENTARY INFORMATION: The VA “Medical” regulations are set forth at 38 CFR Part 17.96. The interim final rule amending these regulations was published in the Federal Register on July 14, 1998 at 63 FR 37779.

We provided a 60-day comment period that ended September 14, 1998. We received two comments. One commenter expressed support. The other commenter stated that the eligibility criteria should be liberalized to only require that a veteran be “eligible for compensation or pension benefits.” However, there is a statutory requirement that a veteran be in receipt of benefits to qualify for the provision of drugs and medicines. 38 U.S.C. 1712(d). No change is made based upon this comment. This commenter also states that it would be more efficient and cost-effective to authorize state homes to purchase prescription drugs and medicines from local VA suppliers. No change in the regulation is made based upon this comment. What the commenter suggests is what is happening in those state homes that have contracts with VA to furnish drugs off the Federal Supply Schedule at the same price that VA pays. If other state homes want access to the Federal Supply Schedule, they may achieve that access by contracting with VA. Based on the rationale set forth in the interim final rule and in this document we now affirm as a final rule the changes made by the interim final rule.

Paperwork Reduction Act

This document contains no provisions constituting a collection of information under the Paperwork Reduction Act (44 U.S.C. 3501-3521).

Administrative Procedure Act

This document without any changes affirms amendments made by an interim final rule that is already in effect. Accordingly, we have concluded under 5 U.S.C. 553 that there is good cause for dispensing with a delayed effective date based on the conclusion that such procedure is impracticable, unnecessary, and contrary to the public interest.

Unfunded Mandates

The Unfunded Mandates Reform Act requires, at 2 U.S.C. 1532, that agencies prepare an assessment of anticipated costs and benefits before developing any rule that may result in an expenditure by State, local, or tribal governments, in the aggregate, or by the private sector of $100 million or more in any given year. This rule would have no consequential effect on State, local, or tribal governments.

Regulatory Flexibility Act

The Secretary hereby certifies that this final rule will not have a significant economic impact on a substantial number of small entities as they are defined in the Regulatory Flexibility Act, 5 U.S.C. 601-612. This rule will have only a miniscule effect on any small entity. Therefore, pursuant to 5 U.S.C. 605(b), this rule is exempt from the initial and final regulatory flexibility analysis requirements of §§ 603 and 604.

Catalog of Federal Domestic Assistance Program Number

The Catalog of Federal Domestic Assistance program number for this document is 64.012.

List of Subjects in 38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

Approved: March 3, 2003.
Anthony J. Principi,
Secretary of Veterans Affairs.

PART 17—MEDICAL

Accordingly, the interim final rule amending 38 CFR part 17 which was published at 63 FR 37779 on July 14, 1998, is adopted as a final rule without change.

[FR Doc. 03-6099 Filed 3-12-03; 8:45 am]

BILLING CODE 8320-01-P